DEPARTMENT OF COMMERCE

International Trade Administration

[Docket No. 250625-0113: RTID 0625-XC056]

Imports of Automobiles, Automobile Parts, Civil Aircraft and Civil Aircraft Parts From the United Kingdom Under Executive Order 14309

AGENCY: International Trade Administration, U.S. Department of Commerce.

ACTION: Notice.

SUMMARY: Executive Order 14309 of June 16, 2025 (Implementing the General Terms of the United States of America-United Kingdom Economic Prosperity Deal) (Executive Order 14309) establishes a tariff rate quota on automobiles that are products of the United Kingdom (UK), provides for preferential tariff treatment for automobile parts that are products of the UK and for use in UK automobiles, and removes certain tariffs from products of the UK that fall under the World Trade Organization Agreement on Trade in Civil Aircraft. Executive Order 14309 provides that the Secretary of Commerce, in consultation with the United States International Trade Commission (ITC) and U.S. Customs and Border Protection (CBP) is to publish a notice in the Federal Register to modify the Harmonized Tariff Schedule of the United States (HTSUS) to conform with that treatment.

DATES: The changes in the HTSUS are effective June 30, 2025.

FOR FURTHER INFORMATION CONTACT: Emily Davis, Director for Public Affairs, International Trade Administration, U.S. Department of Commerce, 202-482-3809, Emily.Davis@trade.gov.

SUPPLEMENTARY INFORMATION:

I. Background

On May 8, 2025, President Donald Trump and United Kingdom Prime Minister Keir Starmer announced the General Terms for the United States of America and the United Kingdom of Great Britain and Northern Ireland Economic Prosperity Deal (General Terms). The General Terms outline a historic trade deal that provides American companies unprecedented access to British markets while bolstering the national security and economy of the United States. The deal includes billions of dollars of increased market access for American exports, especially for beef, ethanol, and certain other American agricultural exports. In addition, the United Kingdom will reduce or eliminate numerous non-tariff barriers that unfairly discriminate against American products, hurt the United States' manufacturing base, and threaten the national security of the United States.

The General Terms provide, among other things, that the United States intends to create an annual quota of 100,000 vehicles for United Kingdom automobile imports at a combined 10 percent tariff rate. In the General Terms, the United States and the United Kingdom committed to adopt a structured, negotiated approach to addressing United States national security concerns regarding sectors that may be subject to future investigations under Section 232 of the Trade Expansion Act of 1962, as amended (19 U.S.C. 1862). To that end, the United States and the United Kingdom further committed to strengthen aerospace and aircraft manufacturing supply chains by establishing tariff-free bilateral trade in certain aerospace products.

On June 16, 2025, President Trump issued Executive Order 14309, which established an annual tariff-rate quota of 100,000 automobiles that are classified in heading 8703 of the HTSUS as further specified in note 33(b) to subchapter III of chapter 99 of the HTSUS for automobiles that are products of the United Kingdom (90 FR 26419). Imports of automobiles within the tariff-rate quota that would otherwise be subject to a 25 percent tariff under Proclamation 10908 of March 26, 2025 (Adjusting Imports of Automobile and Automobile Parts Into the United States) (90 FR 14705) are instead to be subject to a 7.5 percent tariff, in addition to the most-favored-nation rate for automobiles of 2.5 percent, for a combined rate of 10 percent. Imports in excess of the tariff-rate quota quantity remain subject to the full duties imposed by Proclamation 10908.

Executive Order 14309 also provides that as of the date of publication of this Federal Register notice, automobile parts specified in note 33(g) to subchapter III of chapter 99 of the HTSUS that would otherwise be subject to a 25 percent tariff under Proclamation 10908, are instead to be subject to a total tariff of 10 percent, including any most-favored-nation tariff, provided that they are the products of the United Kingdom and that they are for use in automobiles that are products of the United Kingdom. The tariff headings listed in Annex 1.B identify the automobile parts that otherwise would be subject to a 25 percent tariff under Proclamation 10908 that are for use in UK-automobiles that are products of the UK.

Executive Order 14309 also provides that as of the date of publication of this Federal Register Notice products of the United Kingdom that fall under the World Trade Organization Agreement on Trade in Civil Aircraft are no longer subject to tariffs imposed under specified Presidential actions (Executive Order 14257 of April 2, 2025 (Regulating Imports With a Reciprocal Tariff To Rectify Trade Practices That Contribute to Large and Persistent Annual United States Goods Trade Deficits), as amended; Proclamation 9704 of March 8, 2018 (Adjusting Imports of Aluminum Into the United States), as amended; and Proclamation 9705 of March 8, 2018 (Adjusting Imports of Steel Into the United States), as amended).

Executive Order 14309 provides that the Secretary of Commerce, in consultation with CBP and the USITC, is to revise the HTSUS so that it conforms to the changes specified in that Order and announce such revisions in the Federal Register. Accordingly, the HTSUS is modified as provided for in Annex I to this Notice.

Trevor Kellogg,
Performing the Non-Exclusive Functions and Duties of the Under Secretary for International Trade, Chief of Staff and Senior Advisor, Office of the Under Secretary, International Trade Administration, Commerce Department.

Annex I

A. Effective with respect to goods entered for consumption, or withdrawn from warehouse for consumption, on or after 12:01 a.m. eastern time on June 30, 2025:

a. U.S. note 33 to subchapter III of chapter 99 of the Harmonized Tariff Schedule of the United States (HTSUS) is modified by adding in the following subdivision (i):

“(i) Heading 9903.94.31 sets forth the ordinary customs duty treatment for certain passenger vehicles that are products of the United Kingdom that are classified under the following subheadings of 8703:

8703.22.01

8703.23.01

8703.24.01

8703.31.01

8703.32.01

8703.33.01

8703.40.00

8703.50.00

8703.60.00

8703.70.00

8703.80.00

8703.90.01

The aggregate annual import volume under heading 9903.94.31 for such products of the United Kingdom for calendar year 2025 shall be limited to 65,205 passenger vehicles.

Beginning on January 1, 2026, and annually thereafter, the aggregate annual import volume under heading 9903.94.31 for such products of the United Kingdom shall be limited to 100,000 passenger vehicles per year. No shipments of such passenger vehicles that are products of the United Kingdom shall be allowed to enter in an aggregate quantity under such heading 9903.94.31, during any of the periods January through March, April through June, July through September, or October through December in any 12-month period that is in excess of 25,000 passenger vehicles, except to the extent of any unused quantity carried forward from a prior quarter. U.S. Customs and Border Protection shall carry forward any unused quantity of such passenger vehicles that are products of the United Kingdom from the first quarter of any calendar year to the third quarter of such year, and shall carryforward any unused quantity from the second quarter of any calendar year to the fourth quarter of such year. The 100,000 passenger vehicle per year tariff rate quota shall recommence on January 1 of each year. Articles entered in excess of this quantity are subject to all applicable tariffs.

Any passenger vehicle, except those eligible for admission under “domestic status” as defined in 19 CFR 146.43, that is subject to the duty imposed by this subdivision and that is admitted into a United States foreign trade zone on or after the effective date of the quota, must be admitted as “privileged foreign status” as defined in 19 CFR 146.41, and will be subject upon entry for consumption to the provisions of the tariff-rate quota in effect at the time of the entry for consumption.

Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for the passenger vehicles enumerated in this subdivision under a provision of chapter 99 that may set forth a lower rate of duty or provide duty-free treatment, taking into account information supplied by CBP, but any additional duty prescribed in any provision of this subchapter or subchapter IV of chapter 99 shall be imposed in addition to the duty in heading 9903.94.31. All antidumping, countervailing, or other duties and charges applicable to such goods shall continue to be imposed in addition to the duty in heading 9903.94.31. Entries of passenger vehicles described in this subdivision (i) shall not be subject to: (1) the additional duties imposed on entries of products of aluminum under heading 9903.85.12; (2) the additional duties imposed on entries of derivative aluminum products under headings 9903.85.13, 9903.85.14, and 9903.85.15; (3) the additional duties imposed on entries of iron or steel products under headings 9903.81.94 and 9903.81.95; and (4) the additional duties imposed on entries of derivative iron or steel products under headings 9903.81.96, 9903.81.97, 9903.81.98 and 9903.81.99.”

b. U.S. note 33(a) to subchapter III of chapter 99 of the HTSUS is modified by:

i. deleting “Except as provided for in headings 9903.94.02, 9903.94.03, and 9903.94.04,”and inserting “Except as provided for in headings 9903.94.02, 9903.94.03, 9903.94.04, and 9903.94.31,” in lieu thereof.

ii. deleting “No claim for entry or for any duty exemption or reduction shall be allowed” and inserting “Except as provided in heading 9903.94.31, no claim for entry or for any duty exemption or reduction shall be allowed” in lieu thereof.

c. U.S. note 33(b) to subchapter III of chapter 99 of the HTSUS is modified by deleting “and” after “The rates of duty set forth in headings 9903.94.01, 9903.94.02, 9903.94.03,” and inserting “and certain entries under 9903.94.31” after “9903.94.04”.

d. Heading 9903.94.01 is modified by deleting the article description and inserting “Except for 9903.94.02, 9903.94.03, 9903.94.04 and 9903.94.31, effective with respect to entries on or after April 3, 2025, passenger vehicles (sedans, sport utility vehicles, crossover utility vehicles, minivans, and cargo vans) and light trucks, as specified in note 33 to this subchapter, as provided for in subdivision (b) of U.S. note 33 to this subchapter.” in lieu thereof.

e. Subchapter III of chapter 99 of the HTSUS is modified by inserting new headings 9903.94.31 in numerical sequence, with the material in the new heading inserted in the columns of the HTSUS labeled “Heading/Subheading”, “Article Description”, “Rates of Duty 1-General”, “Rates of Duty 1-Special” and “Rates of Duty 2”, respectively:

Heading/ subheading | Article description | Rates of duty: 1: General | Rates of duty: 1: Special | Rates of duty: 2
“9903.94.31 | Effective with respect to entries on or after [ ], passenger vehicles that are products of the United Kingdom as specified in subdivision (i) of U.S. note 33 to this subchapter, when entered under the terms of subdivision (i) of U.S. note 33 to this subchapter | The duty provided in the applicable subheading + 7.5% | No change | No change.”

B. Effective with respect to goods entered for consumption, or withdrawn from warehouse for consumption, on or after 12:01 a.m. eastern time on June 30, 2025:

a. U.S. note 33 to subchapter III of chapter 99 of the HTSUS is modified by adding in the following subdivisions j:

“(j) Heading 9903.94.32 sets forth the ordinary customs duty treatment for parts of passenger vehicles and light trucks that are products of the United Kingdom classifiable in the following statistical reporting numbers of the HTSUS Annotated:

4009.12.0020; 4009.22.0020; 4009.32.0020; 4009.42.0020; 4011.10.1010; 4011.10.1020 4011.10.1030; 4011.10.1040; 4011.10.1050; 4011.10.1060; 4011.10.1070; 4011.10.5000; 4011.20.1005; 4011.20.1015; 4012.19.8000; 4012.20.6000; 4013.10.0010; 4013.10.0020; 4016.99.6010; 7007.21.5100; 7009.10.0000; 7320.10.3000; 7320.10.6015; 7320.10.6060; 7320.10.9015; 7320.10.9060; 7320.20.1000; 8301.20.0030; 8301.20.0060; 8302.10.3000; 8302.30.3010; 8302.30.3060; 8302.30.6000; 8407.31.0080; 8407.32.2040; 8407.32.2080; 8407.32.9040; 8407.32.9080; 8407.33.3040; 8407.33.3080; 8407.33.6040; 8407.33.6080; 8407.33.9040; 8407.33.9080; 8407.34.0530 8407.34.0560; 8407.34.0590; 8407.34.1400; 8407.34.1800; 8407.34.2500; 8407.34.3530; 8407.34.3590; 8407.34.4400; 8407.34.4800; 8407.34.5500; 8408.20.2000; 8409.91.1040; 8409.99.1040; 8413.30.1000; 8413.30.9030; 8413.30.9060; 8413.30.9090; 8413.91.1000 8413.91.9010; 8414.30.8030; 8414.59.3000; 8414.59.6540; 8414.80.0500; 8415.20.0000; 8421.23.0000; 8421.32.0000; 8425.49.0000; 8426.91.0000; 8431.10.0090; 8482.10.1040; 8482.10.1080; 8482.10.5044; 8482.10.5048; 8482.20.0020; 8482.20.0030; 8482.20.0040; 8482.20.0061; 8482.20.0070; 8482.20.0081; 8482.40.0000; 8482.50.0000; 8483.10.1030; 8483.10.3010; 8483.10.3050; 8501.32.2000; 8501.32.4500; 8501.32.5520; 8501.32.5540; 8501.32.6100; 8501.33.2040; 8501.33.2080; 8501.33.3000; 8501.33.4040; 8501.33.4060; 8501.33.6100; 8501.34.3000; 8501.34.6100; 8501.40.2020; 8501.40.2040; 8501.40.4020; 8501.40.4040; 8501.40.5020; 8501.40.5040; 8501.40.6020; 8501.40.6040; 8501.51.2020; 8501.51.2040; 8501.51.4020; 8501.51.4040; 8501.51.5020; 8501.51.5040; 8501.51.6020; 8501.51.6040; 8501.52.4000; 8501.52.8020; 8501.52.8040; 8507.10.0030; 8507.10.0060; 8507.10.0090; 8507.60.0010; 8507.60.0020; 8507.90.4000; 8507.90.8000; 8511.10.0000; 8511.20.0000; 8511.30.0040; 8511.30.0080; 8511.40.0000; 8511.50.0000; 8511.80.2000; 8511.80.6000; 8511.90.6020; 8511.90.6040; 8512.20.2040; 8512.20.2080; 8512.20.4040; 8512.20.4080; 8512.30.0020; 8512.30.0030; 8512.30.0040; 8512.40.2000; 8512.40.4000; 8512.90.2000; 8512.90.6000; 8512.90.7000; 8519.81.2000; 8525.60.1010; 8527.21.1500 8527.21.2525; 8527.21.4080; 8527.29.4000; 8527.29.8000; 8539.10.0010; 8539.10.0050; 8544.30.0000; 8706.00.0520; 8706.00.1520; 8706.00.1540; 8706.00.2500; 8707.10.0020; 8707.10.0040; 8707.90.5060 8707.90.5080; 8708.10.3020; 8708.10.3030; 8708.10.3040; 8708.10.3050; 8708.10.6010; 8708.10.6050; 8708.21.0000; 8708.22.0000; 8708.29.1500; 8708.29.2120; 8708.29.2130; 8708.29.2140; 8708.29.2500; 8708.29.5110; 8708.29.5125; 8708.29.5160; 8708.30.1010; 8708.30.1090; 8708.30.5020; 8708.30.5030; 8708.30.5040; 8708.30.5090; 8708.40.1110; 8708.40.1150; 8708.40.7000; 8708.40.7570; 8708.40.7580; 8708.50.1110; 8708.50.1150; 8708.50.3110; 8708.50.3150; 8708.50.5110; 8708.50.5150; 8708.50.6100; 8708.50.6500; 8708.50.7000; 8708.50.7500; 8708.50.7900; 8708.50.8100; 8708.50.8500; 8708.50.8900; 8708.50.9110; 8708.50.9150; 8708.50.9300; 8708.50.9500; 8708.50.9900; 8708.70.0500; 8708.70.1500; 8708.70.2500; 8708.70.3500; 8708.70.4530; 8708.70.4546; 8708.70.4548; 8708.70.4560; 8708.70.6030; 8708.70.6045; 8708.70.6060; 8708.80.0300; 8708.80.0500; 8708.80.1300; 8708.80.1600; 8708.80.5100; 8708.80.5500; 8708.80.6000; 8708.80.6510; 8708.80.6590; 8708.91.1000; 8708.91.5000; 8708.91.6000; 8708.91.6500; 8708.91.7510; 8708.91.7550; 8708.93.6000; 8708.93.7500; 8708.94.1000; 8708.94.5000; 8708.94.6000; 8708.94.6500; 8708.94.7000; 8708.94.7510; 8708.94.7550; 8708.95.0500; 8708.95.1000; 8708.95.2000; 8708.99.5300; 8708.99.5500; 8708.99.5800; 8708.99.6805; 8708.99.6810; 8708.99.6890; 8716.90.5010; 8716.90.5048; 8716.90.5060; 9015.10.4000; 9015.10.8000; 9029.10.4000; 9029.10.8000; 9029.20.4080; 9401.20.0000

Any automotive part, except those eligible for admission under “domestic status” as defined in 19 CFR 146.43, that is subject to the duty imposed by this subdivision and that is admitted into a United States foreign trade zone on or after 12:01 a.m. eastern standard time on the[date of publication of this Federal Register notice, must be admitted as “privileged foreign status” as defined in 19 CFR 146.41, and will be subject upon entry for consumption to any ad valorem rates of duty related to the classification under this HTSUS subheading.

Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for the automotive parts enumerated in this subdivision (j) of this note under a provision of chapter 99 that may set forth a lower rate of duty or provide duty-free treatment, taking into account information supplied by CBP, but any additional duty prescribed in any provision of this subchapter or subchapter IV of chapter 99 shall be imposed in addition to the duty in heading 9903.94.32. All antidumping, countervailing, or other duties and charges applicable to such goods shall continue to be imposed in addition to the duty in heading 9903.94.32. Entries of automotive parts described in this subdivision (j) shall not be subject to: (1) the additional duties imposed on entries of products of aluminum under heading 9903.85.12; (2) the additional duties imposed on entries of derivative aluminum products under headings 9903.85.13, 9903.85.14, and 9903.85.15; (3) the additional duties imposed on entries of iron or steel products under headings 9903.81.94 and 9903.81.95; and (4) the additional duties imposed on entries of derivative iron or steel products under headings 9903.81.96, 9903.81.97, 9903.81.98 and 9903.81.99.”

b. U.S. note 33(f) to subchapter III of chapter 99 of the HTSUS is modified by: (i) adding “and 9903.94.32,” after “9903.94.06”; and (ii) deleting “No claim for entry or for any duty exemption or reduction shall be allowed” and inserting “Except as provided in heading 9903.94.32, no claim for entry or for any duty exemption or reduction shall be allowed” in lieu thereof.

c. Heading 9903.94.05 is modified by deleting the article description and inserting “Except for 9903.94.06 and 9903.94.32, effective with respect to entries on or after May 3, 2025, automobile parts, as provided for in subdivision (g) of U.S. note 33 to this subchapter” in lieu thereof.

d. Subchapter III of chapter 99 of the HTSUS is modified by inserting new headings 9903.94.32 in numerical order, with the material in the new heading inserted in the columns of the HTSUS labeled “Heading/Subheading”, “Article Description”, “Rates of Duty 1-General”, “Rates of Duty 1-Special” and “Rates of Duty 2”, respectively:

Heading/ subheading | Article description | Rates of duty: 1: General (%) | Rates of duty: 1: Special (%) | Rates of duty: 2
“9903.94.32 | Effective with respect to entries on or after [ ], parts of passenger vehicles and light trucks of the United Kingdom, classified in the subheadings enumerated in subdivision (j) of U.S. note 33 to this subchapter | 10 | 10 | No change.

C. Effective with respect to goods entered for consumption, or withdrawn from warehouse for consumption, on or after 12:01 a.m. eastern time on June 30, 2025:

a. The following new U.S. note 35 to subchapter III of chapter 99 of the HTSUS is inserted in numerical order:

“(a) As provided in heading 9903.96.01, the additional duties imposed by heading 9903.01.25, 9903.81.94, 9903.81.96, 9903.81.97, 9903.81.98, 9903.85.12, 9903.85.13, 9903.85.14, 9903.85.15 shall not apply to articles of civil aircraft (all aircraft other than military aircraft); their engines, parts, and components; their other parts, components, and subassemblies; and ground flight simulators and their parts and components of the United Kingdom, that otherwise meet the criteria of General Note 6 of HTSUS, and classifiable in the following provisions of the HTSUS, but regardless of whether a product is entered under a provision for which the rate of duty “Free (C)” appears in the “Special” subcolumn: 3917.21.00, 3917.22.00; 3917.23.00; 3917.29.00; 3917.31.00; 3917.33.00; 3917.39.00; 3917.40.00; 3926.90.45; 3926.90.94; 3926.90.96; 3926.90.99; 4008.29.20; 4009.12.00; 4009.22.00; 4009.32.00; 4009.42.00; 4011.30.00; 4012.13.00; 4012.20.10; 4016.10.00; 4016.93.50; 4016.99.35; 4016.99.60; 4017.00.00; 4504.90.00; 4823.90.10; 4823.90.20; 4823.90.31; 4823.90.40; 4823.90.50; 4823.90.60; 4823.90.67; 4823.90.70; 4823.90.80; 4823.90.86; 6812.80.90; 6812.99.10; 6812.99.20; 6812.99.90; 6813.20.00; 6813.81.00; 6813.89.00; 7007.21.11; 7304.31.30; 7304.31.60; 7304.39.00; 7304.41.30; 7304.41.60; 7304.49.00; 7304.51.10; 7304.51.50; 7304.59.10; 7304.59.20; 7304.59.60; 7304.59.80; 7304.90.10; 7304.90.30; 7304.90.50; 7304.90.70; 7306.30.10; 7306.30.30; 7306.30.50; 7306.40.10; 7306.40.50; 7306.50.10; 7306.50.30; 7306.50.50; 7306.61.10; 7306.61.30; 7306.61.50; 7306.61.70; 7306.69.10; 7306.69.30; 7306.69.50; 7306.69.70; 7312.10.05; 7312.10.10; 7312.10.20; 7312.10.30; 7312.10.50; 7312.10.60; 7312.10.70; 7312.10.80; 7312.10.90; 7312.90.00; 7322.90.00; 7324.10.00; 7324.90.00; 7326.20.00; 7413.00.90; 7608.10.00; 7608.20.00; 8108.90.60; 8302.10.60; 8302.10.90; 8302.20.00; 8302.42.30; 8302.42.60; 8302.49.40; 8302.49.60; 8302.49.80; 8302.60.30; 8307.10.30; 8307.90.30; 8407.10.00; 8408.90.90; 8409.10.00; 8411.11.40; 8411.11.80; 8411.12.40; 8411.12.80; 8411.21.40; 8411.21.80; 8411.22.40; 8411.22.80; 8411.81.40; 8411.82.40; 8411.91.10; 8411.91.90; 8411.99.10; 8411.99.90; 8412.10.00; 8412.21.00; 8412.29.40; 8412.29.80; 8412.31.00; 8412.39.00; 8412.80.10; 8412.80.90; 8412.90.90; 8413.19.00; 8413.20.00; 8413.30.10; 8413.30.90; 8413.50.00; 8413.60.00; 8413.70.10; 8413.70.20; 8413.81.00; 8413.91.10; 8413.91.20; 8413.91.90; 8414.10.00; 8414.20.00; 8414.30.40; 8414.30.80; 8414.51.30; 8414.51.90; 8414.59.30; 8414.59.65; 8414.80.05; 8414.80.16; 8414.80.20; 8414.80.90; 8414.90.10; 8414.90.30; 8414.90.41; 8414.90.91; 8415.10.60; 8415.10.90; 8415.81.01; 8415.82.01; 8415.83.00; 8415.90.40; 8415.90.80; 8418.10.00; 8418.30.00; 8418.40.00; 8418.61.01; 8418.69.01; 8419.50.10; 8419.50.50; 8419.81.50; 8419.81.90; 8419.90.10; 8419.90.20; 8419.90.30; 8419.90.50; 8419.90.85; 8421.19.00; 8421.21.00; 8421.23.00; 8421.29.00; 8421.31.00; 8421.32.00; 8421.39.01; 8424.10.00; 8425.11.00; 8425.19.00; 8425.31.01; 8425.39.01; 8425.42.00; 8425.49.00; 8426.99.00; 8428.10.00; 8428.20.00; 8428.33.00; 8428.39.00; 8428.90.03; 8443.31.00; 8443.32.10; 8443.32.50; 8471.41.01; 8471.49.00; 8471.50.01; 8471.60.10; 8471.60.20; 8471.60.70; 8471.60.80; 8471.60.90; 8471.70.10; 8471.70.20; 8471.70.30; 8471.70.40; 8471.70.50; 8471.70.60; 8471.70.90; 8479.89.10; 8479.89.20; 8479.89.65; 8479.89.70; 8479.89.95; 8479.90.41; 8479.90.45; 8479.90.55; 8479.90.65; 8479.90.75; 8479.90.85; 8479.90.95; 8483.10.10; 8483.10.30; 8483.10.50; 8483.30.40; 8483.30.80; 8483.40.10; 8483.40.30; 8483.40.50; 8483.40.70; 8483.40.80; 8483.40.90; 8483.50.40; 8483.50.60; 8483.50.90; 8483.60.40; 8483.60.80; 8483.90.10; 8483.90.20; 8483.90.30; 8483.90.50; 8483.90.80; 8484.10.00; 8484.90.00; 8501.20.50; 8501.20.60; 8501.31.50; 8501.31.60; 8501.31.81; 8501.32.20; 8501.32.55; 8501.32.61; 8501.33.20; 8501.33.30; 8501.33.61; 8501.34.61; 8501.40.50; 8501.40.60; 8501.51.50; 8501.51.60; 8501.52.40; 8501.52.80; 8501.53.40; 8501.53.60; 8501.61.01; 8501.62.01; 8501.63.01; 8501.71.00; 8501.72.10; 8501.72.20; 8501.72.30; 8501.72.90; 8501.80.10; 8501.80.20; 8501.80.30; 8502.11.00; 8502.12.00; 8502.13.00; 8502.20.00; 8502.31.00; 8502.39.00; 8502.40.00; 8504.10.00; 8504.31.20; 8504.31.40; 8504.31.60; 8504.32.00; 8504.33.00; 8504.40.40; 8504.40.60; 8504.40.70; 8504.40.85; 8504.40.95; 8504.50.40; 8504.50.80; 8507.10.00; 8507.20.80; 8507.30.80; 8507.50.00; 8507.60.00; 8507.80.82; 8507.90.40; 8507.90.80; 8511.10.00; 8511.20.00; 8511.30.00; 8511.40.00; 8511.50.00; 8511.80.20; 8511.80.40; 8511.80.60; 8514.20.40; 8516.80.40; 8516.80.80; 8517.13.00; 8517.14.00; 8517.61.00; 8517.62.00; 8517.69.00; 8517.71.00; 8518.10.40; 8518.10.80; 8518.21.00; 8518.22.00; 8518.29.40; 8518.29.80; 8518.30.10; 8518.30.20; 8518.40.10; 8518.40.20; 8518.50.00; 8519.81.10; 8519.81.20; 8519.81.25; 8519.81.30; 8519.81.41; 8519.89.10; 8519.89.20; 8519.89.30; 8521.10.30; 8521.10.60; 8521.10.90; 8522.90.25; 8522.90.36; 8522.90.45; 8522.90.58; 8522.90.65; 8522.90.80; 8526.10.00; 8526.91.00; 8526.92.10; 8526.92.50; 8528.42.00; 8528.52.00; 8528.62.00; 8529.10.21; 8529.10.40; 8529.10.91; 8529.90.04; 8529.90.05; 8529.90.06; 8529.90.09; 8529.90.13; 8529.90.16; 8529.90.19; 8529.90.21; 8529.90.24; 8529.90.29; 8529.90.33; 8529.90.36; 8529.90.39; 8529.90.43; 8529.90.46; 8529.90.49; 8529.90.55; 8529.90.63; 8529.90.68; 8529.90.73; 8529.90.77; 8529.90.78; 8529.90.81; 8529.90.83; 8529.90.87; 8529.90.88; 8529.90.89; 8529.90.93; 8529.90.95; 8529.90.97; 8529.90.98; 8531.10.00; 8531.20.00; 8531.80.15; 8531.80.90; 8536.70.00; 8539.10.00; 8539.51.00; 8543.70.42; 8543.70.45; 8543.70.60; 8543.70.80; 8543.70.91; 8543.70.95; 8543.90.12; 8543.90.15; 8543.90.35; 8543.90.65; 8543.90.68; 8543.90.85; 8543.90.88; 8544.30.00; 8801.00.00; 8802.11.01; 8802.12.01; 8802.20.01; 8802.30.01; 8802.40.01; 8805.29.00; 8806.10.00; 8806.21.00; 8806.22.00; 8806.23.00; 8806.24.00; 8806.29.00; 8806.91.00; 8806.92.00; 8806.93.00; 8806.94.00; 8806.99.00; 8807.10.00; 8807.20.00; 8807.30.00; 8807.90.90; 9001.90.40; 9001.90.50; 9001.90.60; 9001.90.80; 9001.90.90; 9002.90.20; 9002.90.40; 9002.90.70; 9002.90.85; 9002.90.95; 9014.10.10; 9014.10.60; 9014.10.70; 9014.10.90; 9014.20.20; 9014.20.40; 9014.20.60; 9014.20.80; 9014.90.10; 9014.90.20; 9014.90.40; 9014.90.60; 9020.00.40; 9020.00.60; 9025.11.20; 9025.11.40; 9025.19.40; 9025.19.80; 9025.80.10; 9025.80.15; 9025.80.20; 9025.80.35; 9025.80.40; 9025.80.50; 9025.90.06; 9026.10.20; 9026.10.40; 9026.10.60; 9026.20.40; 9026.20.80; 9026.80.20; 9026.80.40; 9026.80.60; 9026.90.20; 9026.90.40; 9026.90.60; 9029.10.80; 9029.20.40; 9029.90.80; 9030.10.00; 9030.20.05; 9030.20.10; 9030.31.00; 9030.32.00; 9030.33.34; 9030.33.38; 9030.39.01; 9030.40.00; 9030.84.00; 9030.89.01; 9030.90.25; 9030.90.46; 9030.90.66; 9030.90.68; 9030.90.84; 9030.90.89; 9031.80.40; 9031.80.80; 9031.90.21; 9031.90.45; 9031.90.54; 9031.90.59; 9031.90.70; 9031.90.91; 9032.10.00; 9032.20.00; 9032.81.00; 9032.89.20; 9032.89.40; 9032.89.60; 9032.90.21; 9032.90.41; 9032.90.61; 9033.00.90; 9104.00.05; 9104.00.10; 9104.00.20; 9104.00.25; 9104.00.30; 9104.00.40; 9104.00.45; 9104.00.50; 9104.00.60; 9109.10.50; 9109.10.60; 9109.90.20; 9401.10.40; 9401.10.80; 9403.20.00; 9403.70.40; 9403.70.80; 9405.11.40; 9405.11.60; 9405.11.80; 9405.19.40; 9405.19.60; 9405.19.80; 9405.61.20; 9405.61.40; 9405.61.60; 9405.69.20; 9405.69.40; 9405.69.60; 9405.92.00; 9405.99.20; 9405.99.40; 9620.00.50; 9620.00.60; 9802.00.40; 9802.00.50; 9802.00.60; 9802.00.80; 9818.00.05; 9818.00.07;

b. U.S. note 2(v)(i) to subchapter III of chapter 99 of the HTSUS is modified by (i) deleting “Except as provided in headings 9903.01.26-9903.01.33, in heading 9903.01.34” and inserting “Except as provided in headings 9903.01.26-9903.01.33, in heading 9903.01.34, in heading 9903.96.01” in lieu thereof; and (ii) inserting “except as provided in 9903.96.01 with respect to the Agreement on Trade and Civil Aircraft” after “Products that are eligible for special tariff treatment under general note 3(c)(i) to the tariff schedule, or that are eligible for temporary duty exemptions or reductions under subchapter II to chapter 99, shall be subject to the additional ad valorem rate of duty imposed by these headings”.

c. U.S. note 16(p) to subchapter III of chapter 99 of the HTSUS is modified by inserting “Except as provided in heading 9903.96.01” to the beginning of the first sentence.

d. U.S. note 16(r) to subchapter III of chapter 99 of the HTSUS is modified by to inserting “Except as provided in heading 9903.96.01” to the beginning of the first sentence.

e. U.S. note 19(n) to subchapter III of chapter 99 of the HTSUS is modified by inserting “Except as provided in heading 9903.96.01 of this subchapter,” to the beginning of the first sentence.

f. U.S. note 19(p) is modified by inserting “Except as provided in heading 9903.96.01] of this subchapter,” to the beginning of the first sentence.

g. Heading 9903.01.25 is modified by deleting “and except as provided for in heading 9903.01.34” and inserting “except as provided for in heading 9903.01.34, and except as provided for in heading 9903.96.01,” in lieu thereof.

h. Subchapter III of chapter 99 of the HTSUS is modified by inserting new headings 9903.96.01 numerical order, with the material in the new heading inserted in the columns of the HTSUS labeled “Heading/Subheading”, “Article Description”, “Rates of Duty 1-General”, “Rates of Duty 1-Special” and “Rates of Duty 2”, respectively:

Heading/ subheading | Article description | Rates of duty: 1: General | Rates of duty: 1: Special | Rates of duty: 2
“9903.96.01 | Effective with respect to entries on or after [ ], articles of civil aircraft (all aircraft other than military aircraft); their engines, parts, and components; their other parts, components, and subassemblies; and ground flight simulators and their parts and components of the United Kingdom, classified in the subheadings enumerated in subdivision (a) of U.S. note 35 to this subchapter | The duty provided in the applicable subheading | The duty provided in the applicable subheading | No change.

[FR Doc. 2025-12060 Filed 6-26-25; 4:15 pm]

BILLING CODE 3510-DR-P